DEPARTMENT OF COMMERCE

National Oceanic and Atmospheric Administration

50 CFR Part 660

[I.D. 101503D]

Western Pacific Fishery Management Council; Public Hearings

AGENCY: National Marine Fisheries Service (NMFS), National Oceanic and Atmospheric Administration (NOAA), Commerce.

ACTION: Notice of public hearings.

SUMMARY: The Western Pacific Fishery Management Council (Council) will convene public hearings on the Draft Environmental Impact Statement (DEIS) for the Bottomfish and Groundfish Fisheries of the Western Pacific Region (Bottomfish FMP). The DEIS presents an overall picture of the environmental effects of the existing fishery activities as conducted under the Bottomfish FMP. In addition, the DEIS analyzes the biological, economic, and social impacts that would result from alternative regulatory regimes conducted under the FMP.

DATES: The public hearings will be conducted between October 21, 2003 and November 23, 2003 (see SUPPLEMENTARY INFORMATION for specific times, dates, and locations).

ADDRESSES: Written comments on the DEIS should be sent to Dr. Sam Pooley, Acting Regional Administrator, NMFS, Pacific Islands Regional Office, 1601 Kapiolani Blvd., Ste. 1110, Honolulu, HI 96814-4700 or via fax to (808)973-2941.

FOR FURTHER INFORMATION CONTACT: Kitty M. Simonds, Executive Director, WPFMC, at (808) 522-8220.

SUPPLEMENTARY INFORMATION:

Dates, Times, and Locations of Public Hearings

1. Kauai, HI—Monday, October 27, 2003, from 7-9 p.m. at Chiefess Kamakahelei Middle School, 4431 Nuhou St., Lihue, Kauai 96766;

2. Maui, HI—Tuesday, October 28, 2003, from 7-9 p.m. at the Maui Beach Hotel, 170 Kaahumanu Ave., Kahului, Maui 96732;

3. Hilo, HI—Wednesday, October 29, 2003, from 7-9 p.m. at the University of Hawaii-Hilo Campus Center, 200 W. Kawaili St., Hilo, HI 96720.

4. Hawaii, HI—Thursday, October 30, 2003, from 7-9 p.m. at King Kamehameha Hotel, 75-5660 Plalani Rd., Kona, HI 96740;

5. American Samoa—Thursday, November 6, 2003, from 7-9 p.m. at the Department of Marine Resources and Wildlife Conference Room, Pago Pago, American Samoa 96799;

6. Oahu, HI—Thursday, November 13, 2003, from 7-9 p.m. at the Fisherman's Wharf, 1009 Ala Moana Blvd., Honolulu, HI 96814;

7. Saipan, CNMI—Wednesday, November 19, 2003 from 7-9 p.m. at the Pedro P. Tenorio Multipurpose Building, Susupe, CNMI 96950;

8. Agana (Hagatna), Guam—November 20, 2003 from 7-9 p.m. at the Guam Fishermen's Cooperative, Perez Marina, Hagatna, Guam 96932.

Special Accommodations

These meetings are physically accessible to people with disabilities. Requests for sign language interpretation or other auxiliary aids should be directed to Kitty M. Simonds, Executive Director, WPFMC,(808) 522-8220 or (808)522-8226 (fax), at least 5 days prior to the meeting date.

Authority: 16 U.S.C. 1801 et seq.

Dated: October 16, 2003.
Bruce C. Morehead,
Acting Director, Office of Sustainable Fisheries, National Marine Fisheries Service.

[FR Doc. 03-26550 Filed 10-20-03; 8:45 am]

BILLING CODE 3510-22-S